DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting supplemental funding in the scope of the parent award to the 36 Rural Emergency Medical Services Training Grant (REMS) recipients funded under Notice of Funding Opportunity (NOFO) TI-23-011. These recipients have a project end date of September 29, 2024. The supplemental funding is to provide the opioid antagonist medication, naloxone, that can be used to treat respiratory depression in suspected opioid overdose patients, and for the procurement of emergency equipment used to rapidly reverse the effects of opioid overdoses. Recipients may receive up to $49,000 for the purchase of naloxone and up to $49,000 for purchasing equipment, for a total of $98,000 per recipient.

FOR FURTHER INFORMATION CONTACT: Humberto Carvalho, Email: Humberto.Carvalho@samhsa.hhs.gov, Phone: (240) 276-2974.

SUPPLEMENTARY INFORMATION:

Funding Opportunity Title: Rural Emergency Medical Services Training TI-23-011.

Assistance Listing Number: 93.243.

Authority: The REMS Training grants are authorized under Section 330J of the Public Health Service Act, as amended (42 U.S.C. 254c15).

Justification: This is not a formal request for application. Assistance will only be provided to the 36 REMS recipients funded in FY 2023 funded under Rural Emergency Medical Services Training Grant Funding Opportunity TI-23-011, based on the receipt of a satisfactory application and associated budget. The purpose of the supplement is to further expand and enhance REMS grant activities; therefore, only current recipients are eligible.

Dated: August 28, 2023.
Ann Ferrero,
Public Health Analyst.

[FR Doc. 2023-18911 Filed 8-31-23; 8:45 am]

BILLING CODE 4162-20-P